DEPARTMENT OF THE TREASURY

Appointment of Members to the Legal Division Performance Review Board

Under the authority granted to me as General Counsel of the Department of the Treasury, including the authority conferred by 31 U.S.C. 301 and Treasury Department Order No. 101-05 (revised), and pursuant to the Civil Service Reform Act, I hereby appoint the following individuals to the General Counsel Panel of the Legal Division Performance Review Board:

Lily Fu, who shall serve as Chairperson;

Russell L. Munk, Assistant General Counsel (International Affairs);

Bernard J. Knight, Assistant General Counsel (General Law and Ethics);

Thomas M. McGivern, Assistant to the General Counsel (Legislation & Litigation);

Roberta K. McInerney, Assistant General Counsel (Banking and Finance);

Mark Monborne, Assistant General Counsel (Enforcement & Intelligence);

Marilyn L. Muench, Deputy Assistant General Counsel (International Affairs);

John Schorn, Deputy Assistant General Counsel (General Law and Ethics);

Peter A. Bieger, Deputy Assistant General Counsel (Banking and Finance);

James H. Freis, Deputy Assistant General Counsel (Enforcement & Intelligence);

Paul Wolfteich, Chief Counsel, Bureau of Public Debt;

Daniel P. Shaver, Chief Counsel, United States Mint;

Robert M. Tobiassen, Chief Counsel, Alcohol and Tobacco Tax and Trade Bureau;

Sean M. Thornton, Chief Counsel, Office of Foreign Assets Control;

Michael J. Davidson, Chief Counsel, Bureau of Engraving and Printing;

Margaret V. Marquette, Chief Counsel, Financial Management Service;

Donald T. Rocen, Deputy Chief Counsel, Internal Revenue Service;

Harry J. Hicks, III, International Tax Counsel;

Michael Desmond, Tax Legislative Counsel; and

John Harrington, Deputy International Tax Counsel.

Dated: October 26, 2006.
Stephen R. Larson,
General Counsel (Acting).

[FR Doc. 06-9042 Filed 11-2-06; 8:45 am]

BILLING CODE 4811-42-M